ENVIRONMENTAL PROTECTION AGENCY

[FRL-9139-5]

Clean Water Act Section 303(d): Availability of One Total Maximum Daily Load (TMDL) in Arkansas

AGENCY: Environmental Protection Agency (EPA).

ACTION: Notice of availability.

SUMMARY: This notice announces the availability of the administrative record file for comment on one TMDL and the calculations for this TMDL prepared by EPA Region 6 for waters listed in the State of Arkansas under Section 303(d) of the Clean Water Act (CWA). This TMDL was completed in response to the lawsuit styled Sierra Club, et al. v. EPA, et al., No. LR-C-99-114.

DATES: Comments must be submitted in writing to EPA on or before May 19, 2010.

ADDRESSES: Comments on the TMDL should be sent to Ms. Diane Smith, Environmental Protection Specialist, Water Quality Protection Division, U.S. Environmental Protection Agency Region 6, 1445 Ross Ave., Dallas, TX 75202-2733, facsimile (214) 665-7373, or e-mail: smith.diane@epa.gov. For further information, contact Diane Smith at (214) 665-2145. Documents from the administrative record file for this TMDL are available for public inspection at this address as well. Documents from the administrative record file may be viewed at http://www.epa.gov/region6/water/npdes/tmdl/index.htm, or obtained by calling (214) 665-2145 or writing Ms. Smith at the above address. Please contact Ms. Smith to schedule an inspection.

FOR FURTHER INFORMATION CONTACT: Diane Smith at (214) 665-2145.

SUPPLEMENTARY INFORMATION: In 2000, five Arkansas environmental groups, the Sierra Club, Federation of Fly Fishers, Crooked Creek Coalition, Arkansas Fly Fishers, and Save our Streams (plaintiffs), filed a lawsuit in Federal Court against the EPA, styled Sierra Club, et al. v. EPA, et al., No. LR-C-99-114. Among other claims, plaintiffs alleged that EPA failed to establish Arkansas TMDLs in a timely manner. EPA proposes this TMDL pursuant to a consent decree entered in this lawsuit.

EPA Seeks Comments on One TMDL

By this notice EPA is seeking comment on the following TMDL for waters located within the State of Arkansas:

Segment-reach | Waterbody name | Pollutant
11070208-901 | Town Branch | Total Phosphorus

EPA requests that the public provide EPA with any significant water quality related data or information that may be relevant to the calculations for this TMDL. EPA will review all data and information submitted during the public comment period and revise the TMDL where appropriate. EPA will then forward the TMDL to the Arkansas Department of Environmental Quality (ADEQ). The ADEQ will incorporate the TMDL into its current water quality management plan.

Dated: April 8, 2010.
Miguel I. Flores,
Director, Water Quality Protection Division, EPA Region 6.

[FR Doc. 2010-8925 Filed 4-16-10; 8:45 am]

BILLING CODE 6560-50-P